DEPARTMENT OF DEFENSE

Office of the Secretary

[Docket ID: DoD-2021-OS-0120]

Submission for OMB Review; Comment Request

AGENCY: Office of the Under Secretary of Defense for Acquisition and Sustainment, Department of Defense (DoD).

ACTION: 15-Day information collection notice.

SUMMARY: Consistent with the Paperwork Reduction Act of 1995 and its implementing regulations, this document provides notice DoD is submitting an Information Collection Request to the Office of Management and Budget (OMB) to facilitate the grant application and post-grant award reporting requirements of those entities receiving or seeking to receive technical and/or financial assistance from the Office of Local Defense Community Cooperation via its programs of assistance. DoD requests emergency processing and OMB authorization to collect the information after publication of this notice for a period of six months.

DATES: Comments must be received by December 13, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The Office of Local Defense Community Cooperation (OLDCC), in coordination with the other Federal Agencies, delivers a program of technical and financial assistance to enable states and communities to plan and carry out civilian responses to workforce, business, and community needs arising from Defense actions; cooperate with military installations and leverage public and private capabilities to deliver public infrastructure and services to enhance the military mission and achieve facility and infrastructure savings; and increase military, civilian, and industrial readiness and resiliency, and support military families. The Economic Adjustment Data System (EADS) supports this mission by providing a platform for authorized grant applicants to submit their application packages, and for grant awardees to submit quarterly or semi-annual performance reports. We are requesting emergency approval as this system supports all grants management functions for grant applications, active grant monitoring and oversight, and grant closeout activities for OLDCC's portfolio consisting of approximately 225 active grants valued at $1.4B annually.

Title; Associated Form; and OMB Number: Office of Local Defense Community Cooperation Economic Adjustment Data System; OMB Control Number 0704-EADS.

Type of Request: Existing collection in use without an OMB Control Number.

Number of Respondents: 62.

Responses per Respondent: 6.

Annual Responses: 372.

Average Burden per Response: 170 minutes.

Annual Burden Hours: 1,054.

Affected Public: State, Local, or Tribal Government; Business or other for-profit; Not-for-profit Institutions.

Frequency: As required.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: November 22, 2021.
Aaron T. Siegel,
Alternate OSD Federal Register, Liaison Officer, Department of Defense.

[FR Doc. 2021-25826 Filed 11-24-21; 8:45 am]

BILLING CODE 5001-06-P